DEPARTMENT OF TRANSPORTATION

Federal Aviation Administration

14 CFR Part 121

[Docket No. FAA-2003-15682]

RIN 2120-AH81

Digital Flight Data Recorder Requirements

AGENCY: Federal Aviation Administration, DOT.

ACTION: Final rule; technical amendment.

SUMMARY: The Federal Aviation Administration (FAA) is making minor technical changes to a final rule published in the Federal Register on July 18, 2003 (68 FR 42932). That final rule amended appendices in 14 CFR parts 121, 125, and 135. In that final rule the FAA inadvertently did not make conforming amendments to two parts of Appendix M of part 121.

DATES: Effective July 18, 2005.

FOR FURTHER INFORMATION CONTACT: Gary Davis, Flight Standards Service, Air Transportation Division, AFS-201A, Federal Aviation Administration, 800 Independence Avenue, SW., Washington, DC 20591; telephone (202) 267-8166; facsimile (202) 267-5229; e-mail gary.davis@faa.gov.

SUPPLEMENTARY INFORMATION:

Background

The FAA published a final rule on July 18, 2003, that made changes to recording specifications for digital flight data recorders required in 14 CFR parts 121, 125, and 135. Since that rulemaking, two editions of the Code of Federal Regulations have been published (2004, 2005), and each new edition includes two small errors that we are correcting with this technical amendment. Both errors are found in Appendix M of part 121. This appendix lists airplane flight recorder specifications for all 88 parameters that are required for aircraft operating under the rules of part 121.

One error is found in parameter 12a, Pitch Control(s) (non fly-by-wire systems), and the other is found in parameter 19, Pitch trim surface position. These errors were brought to out attention in May 2005 and we are correcting them as quickly as possible. The first error lists a “%” sign under the “Accuracy (sensor input) for parameter 12a, but a “°” (for “degree”) sign should be listed. The second error is a spelling error in parameter 19. Parameter 19 currently reads, “Pitch trime,” when it should read “Pitch trim.”

Need for Correction

The two errors published in current versions of 14 CFR are very minor. It is possible that an operator subject to the requirements described in Appendix M, part 121, could be confused by what is published. It is unlikely that these errors will directly affect safety, but it is necessary for us to make sure that all information in the appendix is 100% accurate.

Technical Amendment

The technical amendment will correct parameters 12a and 19 in 14 CFR, part 121, Appendix M.

List of Subjects in 14 CFR Part 121

Air carriers, Aircraft, Airmen, Alcohol abuse, Aviation safety, Charter flights, Drug abuse, Drug testing, Reporting and recordkeeping requirements, Safety, Transportation.

Accordingly, Title 14 of the Code of Federal Regulations (CFR) part 121 is amended as follows:

PART 121—OPERATING REQUIREMENTS: DOMESTIC, FLAG, AND SUPPLEMENTAL OPERATIONS

1. The authority citation for part 121 continues to read as follows:

Authority: 49 U.S.C. 106(g), 40113, 40119, 41706, 44101, 44701-44702, 44705, 44709-44711, 44713, 44716-44717, 44722, 46105.

2. Amend Appendix M to part 121 by revising parameter 12a and parameter 19 to read as follows:

Appendix M to Part 121—Airplane Flight Recorder Specifications

* * * * *

Parameters | Range | Accuracy (sensor input) | Seconds per sampling interval | Resolution | Remarks
12a. Pitch Control(s) position (non-fly-by-wire systems) | Full Range | ±2° Unless Higher Accuracy Uniquely Required | 0.5 or 0.25 for airplanes operated under § 121.344(f) | 0.5% of full range | For airplanes that have a flight control break away capability that allows either pilot to operate the controls independently, record both control inputs. The control inputs may be sampled alternately once per second to produce the sampling interval of 0.5 or 0.25, as applicable.
* * * * * * *
19. Pitch Trim Surface Position | Full Range | ±3° Unless Higher Accuracy Uniquely Required | 1 | 0.6% of full range |
* * * * * * *

Issued in Washington, DC on July 11, 2005.
Rebecca B. MacPherson,
Assistant Chief Counsel for Regulations.

[FR Doc. 05-14036 Filed 7-15-05; 8:45 am]

BILLING CODE 4910-13-P